EXPORT-IMPORT BANK OF THE U.S.

[Public Notice 2015-3016]

Agency Information Collection Activities: Final Collection; Comment Request

AGENCY: Export-Import Bank of the U.S.

ACTION: Submission for OMB review and comments request.

Form Title: EIB 99-14 Export-Import Bank Trade Reference form.

SUMMARY: The Export-Import Bank of the United States (Ex-Im Bank), as a part of its continuing effort to reduce paperwork and respondent burden, invites the general public and other Federal Agencies to comment on the proposed information collection, as required by the Paperwork Reduction Act of 1995. This collection of information is necessary, pursuant to 12 U.S.C. Sec. 635 (a) (1), to determine whether or not a company has a good payment history.

This form will enable Ex-Im Bank to make a credit decision on a foreign buyer credit limit request submitted by a new or existing policy holder. Additionally, this form is used by those Ex-Im Bank policy holders granted delegated authority to commit the Bank to a foreign buyer credit limit.

The form can be viewed at http://www.exim.gov/sites/default/files/pub/pending/eib99-14.pdf.

DATES: Comments should be received on or before January 28, 2016 to be assured of consideration.

ADDRESSES: Comments may be submitted electronically on WWW.REGULATIONS.GOV or by mail to Office of Information and Regulatory Affairs, 725 17th Street NW., Washington, DC 20038, Attn: OMB 3048-0042.

SUPPLEMENTARY INFORMATION:

Titles and Form Number: EIB 99-14 Export-Import Bank Trade Reference form.

OMB Number: 3048-0042.

Type of Review: Regular.

Need and Use: This form provides essential credit information used by Ex-Im Bank credit officers when analyzing requests for export credit insurance/financing support, both short-term (360 days and less) and medium-term (longer than 360 days), for the export of their U.S. goods and services. Additionally, this form is an integral part of the short term Multi-Buyer export credit insurance policy for those policy holders granted foreign buyer discretionary credit limit authority (DCL). Multi-Buyer policy holders given DCL authority may use this form as the sole source or one piece among several sources of credit information for their internal foreign buyer credit decision which, in turn, commits Ex-Im's insurance.

Affected Public: This form affects entities involved in the export of U.S. goods and services.

Annual Number of Respondents: 6,500.

Estimated Time per Respondent: 15 minutes.

Annual Burden Hours: 1,625 hours.

Frequency of Reporting or Use: As needed.

Government Expenses:

Reviewing time per year: 1,625 hours.

Average Wages per Hour: $42.50.

Average Cost per Year: $69,062.

(time * wages)

Benefits and Overhead: 20%.

Total Government Cost: $82,875.

Bonita Jones-McNeil,
Program Analyst, Records Management Division, Office of the Chief Information Officer.

[FR Doc. 2015-32717 Filed 12-28-15; 8:45 am]

BILLING CODE 6690-01-P